DEPARTMENT OF AGRICULTURE

Food and Nutrition Service

Agency Information Collection Activities: Proposed Collection; Comment Request—Special Supplemental Nutrition Program for Women, Infants, and Children (WIC) Infant and Toddler Feeding Practices Study-2 (WIC ITFPS-2) Age 5 Extension Study

AGENCY: Food and Nutrition Service, United States Department of Agriculture (USDA).

ACTION: Notice and request for comments.

SUMMARY: In accordance with the Paperwork Reduction Act of 1995, this notice invites the public and other public agencies to comment on this proposed information collection. This collection is a revision of the currently approved WIC Infant and Toddler Feeding Practices 2 Study (ITFPS-2). The revision is to amend the 36-month data collection instrument and extend the data collection on the cohort of infants by two years, to their 5th birthdays and therefore through the entire period of their WIC eligibility. The data will be used to estimate the type and prevalence of various feeding practices in the WIC population and assess whether the new WIC food packages (instituted in 2009) have influenced feeding practices. This study will also examine the circumstances and influences that shape caregivers' feeding decisions for their children, and will describe the impact of these decisions throughout early childhood.

DATES: Written comments must be received on or before January 4, 2016.

ADDRESSES: Comments are invited on: (a) Whether the proposed collection of information is necessary for the proper performance of the functions of the agency, including whether the information shall have practical utility; (b) the accuracy of the agency's estimate of the burden on the proposed collection of information, including the validity of the methodology and assumptions that were used; (c) ways to enhance the quality, utility, and clarity of the information collected; and (d) ways to minimize the burden of the information collection on respondents, including use of appropriate automated, electronic, mechanical, or other technological methods of data collection.

Written comments may be sent to: Allison Magness, Ph.D., R.D., Social Science Research Analyst, Office of Policy Support, Food and Nutrition Service, USDA, 3101 Park Center Drive, Room 1014, Alexandria, VA 22302. Comments may also be submitted via fax to the attention of Allison Magness at 703-305-2576 or via email to allison.magness@fns.usda.gov. Comments will also be accepted through the Federal eRulemaking Portal. Go to http://www.regulations.gov and follow the online instructions for submitting comments electronically.

All responses to this notice will be summarized and included in the request for Office of Management and Budget approval. All comments will be a matter of public record.

FOR FURTHER INFORMATION CONTACT: To request more information on the proposed project, contact Allison Magness, Ph.D., R.D., Social Science Research Analyst, Office of Policy Support, Food and Nutrition Service, USDA, 3101 Park Center Drive, Room 1014, Alexandria, VA 22302. Comments may also be submitted via fax to the attention of Allison Magness at 703-305-2576 or via email to allison.magness@fns.usda.gov.

SUPPLEMENTARY INFORMATION: Title: Special Supplemental Nutrition Program for Women, Infants, and Children (WIC) Infant and Toddler Feeding Practices Study-2 (ITFPS-2) Age 5 Extension.

Form Number: N/A.

OMB Number: 0584-0580.

Expiration Date of Approval: 05/31/2018.

Type of request: Revision of a currently approved collection.

Abstract: The Food and Nutrition Service's (FNS) WIC ITFPS-2 will provide information on the feeding practices of infants from the time of birth up to 3 years of age. The proposed revision will amend the 36-month data collection instrument and extend the longitudinal data collection of the current cohort of infants up to 5 years of age, through the end of their WIC eligibility. This proposed extension is needed to understand the influence of environmental characteristics, WIC, and children's nutrient intake, meal and snack patterns, and feeding practices on children's subsequent nutrition, health, weight, and growth. The results will assist in the development of appropriate and effective prevention strategies to improve the health of young children. With over 50 percent of the nation's infants enrolled in WIC, it is hoped that prevention strategies implemented in WIC will have a substantial impact on the growth and health of U.S. infants and children.

The study activities subject to this notice include: Informing State WIC offices and local WIC sites that the study has been extended and their role in the extension study; collecting contact information on 2,444 caregivers in the study during the 36-month telephone interview; administering four additional telephone interviews to up to 3,184 caregivers of children enrolled in the study when their child is 42-, 48-, 54-, and 60-months old; and obtaining their child's height and weight measurements at 48- and 60-months from WIC administrative records, health care provider records, or direct measurements at WIC sites.

The State WIC office and local WIC site staff will be invited to participate in a webinar that will highlight key study findings to date (from reports cleared by FNS) and describe the study extension to age 5. States and sites will participate in conference calls to discuss the follow-up activities. Each study participant will receive a letter about the study extension when the child is 33 months of age and will be asked to provide updated contact information to ensure ongoing participation, at the time of the 36-month interview. Prior to being contacted for each subsequent telephone interview, the caregiver for each child in the cohort will be mailed an advance letter that includes a toll-free number to call for questions or to complete the interview. Participants will also be re-contacted between interviews throughout this study. Participants will receive periodic mailings, calls, emails, and text messages asking them to provide updated contact information and reminding them of upcoming interviews and height and weight (H/W) measurements. WIC site staff will weigh and measure study children at ages 48- and 60-months. Additional H/W measures will come from provider records, WIC State agency administrative records, and home health agency measurements. WIC site staff will also provide updated contact information when requested.

Affected Public: Approximately 3,885 respondents will be contacted to participate in this data collection. Individuals/Households (3,360; 2,178 respondents and 1,183 non-respondents); State, Local, or Tribal government (107 respondents and 0 non-respondents); and Business-for-profit/not-for-profit (418; 334 respondents and 84 non-respondents). There are approximately 1,266 non-respondents who will be contacted but choose not to participate. The total annual responses for this collection are (100,310 = 81,958 respondents and 18,352 non-respondents). The total burden estimate for this collection is (11,438.62 = 10,691.25 respondents and 747.37 non-respondents).

The burden for all affected public, respondents and non-respondents is broken down in the table below.

Type of Respondents: Caregivers of children in cohort; State agency data managers and WIC site staff; and health care providers.

Estimated Total Annual Number of Respondents: 3,885.

Estimated Annual Frequency of Response: 25.81919.

Estimated Total Annual Responses: 100,310 total responses.

Estimated of Time per Respondent: 0.1140364.

Estimated Total Annual Burden Hours: 11,439.

The estimated burden for each type of respondent is given in the table below.

Dated: October 30, 2015.
Yvette S. Jackson,
Acting Administrator, Food and Nutrition Service.

[FR Doc. 2015-28273 Filed 11-4-15; 8:45 am]

BILLING CODE 3410-30-P